FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 012276-003.

Agreement Name: Hapag-Lloyd/Zim Mediterranean Slot Exchange Agreement.

Parties: Hapag Lloyd AG; ZIM Integrated Shipping Services Ltd.

Filing Party: Wayne Rohde, Cozen O'Connor.

Synopsis: The Amendment adds Portugal to the geographic scope of the Agreement and changes the amount of space being exchanged under the Agreement.

Proposed Effective Date: 7/3/2023.

Location: https://www2.fmc.gov/FMC.Agreements.Web/Public/AgreementHistory/135.

Agreement No.: 201218-001.

Agreement Name: Bi-State Public Marine Terminal Discussion Agreement.

Parties: Georgia Ports Authority; South Carolina State Ports Authority.

Filing Party: Paul Heylman, Saul Ewing LLP.

Synopsis: The amendment removes rate discussion authority from the Agreement.

Proposed Effective Date: 7/3/2023.

Location: https://www2.fmc.gov/FMC.Agreements.Web/Public/AgreementHistory/2089.

Agreement No.: 201256-002.

Agreement Name: Maersk/MSC Gulf-ECSA Vessel Sharing Agreement.

Parties: Maersk A/S; Mediterranean Shipping Company S.A.

Filing Party: Wayne Rohde, Cozen O'Connor.

Synopsis: The Amendment revises the number of vessels to be provided by one of the parties, revises the space allocated to the parties, and changes the contact person for Maersk.

Proposed Effective Date: 7/8/2023.

Location: https://www2.fmc.gov/FMC.Agreements.Web/Public/AgreementHistory/12179.

Dated: May 26, 2023.
JoAnne O'Bryant,
Program Analyst.

[FR Doc. 2023-11651 Filed 5-31-23; 8:45 am]

BILLING CODE 6730-02-P